DEPARTMENT OF THE INTERIOR

Bureau of Indian Affairs

[178A2100DD/AAKC001030/A0A501010.999900 253G]

Renewal of Agency Information Collection for Home-Living Programs and School Closure and Consolidation

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for the Home-living Programs and School Closure and Consolidation. This information collection is currently authorized by OMB Control Number 1076-0164. This information collection expires July 31, 2017.

DATES: Submit comments on or before July 25, 2017.

ADDRESSES: You may submit comments on the information collection to Ms. Juanita Mendoza, U.S. Department of the Interior, Bureau of Indian Education, 1849 C Street NW., Washington, DC 20240; fax: (202) 208-3312; email: Juanita.Mendoza@bie.edu.

FOR FURTHER INFORMATION CONTACT: Ms. Juanita Mendoza, (202) 208-6123.

SUPPLEMENTARY INFORMATION:

I. Abstract

Public Law 114-95, the Every Student Succeeds Act (ESSA) of December 10, 2015, requires all schools including BIE-funded boarding/residential schools to ensure that all children have a fair, equal, and significant opportunity to obtain a high-quality education and reach, at a minimum, proficiency on challenging academic achievement standards and assessments. The ESSA, and implementing regulations at 25 CFR 36, requires the BIE to implement national standards for home-living situations in all BIE-funded residential schools. The BIE must collect information from all BIE-funded residential schools in order to assess each school's progress in meeting the national standards. The BIE is seeking renewal of the approval for this information collection to ensure that minimum academic standards for the education of Indian children and criteria for dormitory situations in BIE-operated schools and Tribally-controlled contact and grant schools are met.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0164.

Title: Home-living Programs and School Closure and Consolidation.

Brief Description of Collection: Submission of this information allows the BIE to ensure that minimum academic standards for the education of Indian children and criteria for dormitory situations in Bureau-operated schools and Indian-controlled contract schools are met. Response is required to obtain a benefit.

Type of Review: Extension without change of currently approved collection.

Respondents: Indian Tribes.

Number of Respondents: There are 65 schools with residential programs, of which 27 are Bureau-operated and 38 are Tribally operated. Thus, the collection of information must be cleared for 38 of the 65 residential schools.

Total Number of Responses: 730 per year, on average.

Frequency of Response: Annual or on occasion, depending on the activity.

Estimated Time per Response: Ranges from 1 minute to 40 hours, depending on the activity.

Estimated Total Annual Hour Burden: 1,344 hours.

Estimated Total Annual Non-Hour Dollar Cost: $0.

Authority: The authorities for this action are the Every Student Succeeds Act, Public Law 114-95, and the Paperwork Reduction Act of 1995, 44 U.S.C. 3501 et seq.

Elizabeth K. Appel,
Director, Office of Regulatory Affairs and Collaborative Action—Indian Affairs.

[FR Doc. 2017-10829 Filed 5-25-17; 8:45 am]

BILLING CODE 4337-15-P